DEPARTMENT OF COMMERCE

National Oceanic and Atmospheric Administration

RIN 0648-XF932

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will be held on Monday, January 29 through Thursday, February 1, 2018.

ADDRESSES: Meeting address: The meeting will take place at the Hyatt Centric French Quarter hotel, located at 800 Iberville Street, New Orleans, LA 70112; telephone: (504) 586-0800.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, January 29, 2018; 8:30 a.m.-5:30 p.m.

The meeting will begin in FULL COUNCIL SESSION to review and discuss the appointments for the 2018 Committee Roster. The Spiny Lobster Management Committee will review the 2016/2017 Spiny Lobster Landings and draft options paper for Joint Spiny Lobster Amendment 13. The Administrative/Budget Committee will meet to review the Ad Hoc Advisory Panels and discuss the Scientific and Statistical Committees' (SSC) Organization. After lunch, the Sustainable Fisheries Management Committee will convene to review the Mackerel Landings and Bag Limit Analysis; options paper for Carryover of Unharvested Quota; and the public hearing draft for Amendment 49—Modifications to the Sea Turtle Release Gear and Framework Procedure for the Reef Fish Fishery. The Committee will also review a draft policy for descending devices and venting tools; the Ecosystem Approach to Fisheries Management (EAFM) by Gulf Council and other regional approaches; and a presentation on Reef Fish Charter For-Hire Permit Transfers and Potential Management Actions. The Committee will receive the Environmental Assessment and Exempted Fishery Permits for Lionfish Trap Testing in the Gulf and South Atlantic, and hold a discussion on Dead Zone regarding RESTORE Act Activities. Approximately 4:30 p.m., the Council will reconvene in a CLOSED SESSION of the Full Council to select members to the Ad Hoc Red Snapper and Grouper-Tilefish IFQ Advisory Panel and discuss hiring of the new Executive Director.

Tuesday, January 30, 2018; 8:30 a.m.-5:30 p.m.

The Reef Fish Management Committee will convene to review and discuss Reef Fish Landings and State Management of Recreational Red Snapper. After lunch, the Committee will receive an update on the implementation of the Generic For-Hire Reporting Amendment; and discuss the analysis of Red Grouper Indices of Abundance. The Committee will review Amendment 41—Allocation-based Management for Federally Permitted Charter Vessels and Amendment 42—Reef Fish Management of Headboat Survey Vessels. The Committee will receive a response from NMFS regarding referendum requirements for auctions and receive a report from the Scientific and Statistical Committee (SSC). The Committee will also receive a summary from the Ad Hoc Private Angler Red Snapper Advisory Panel and a presentation on Modifications to the Greater Amberjack Commercial Fishing Year, and Trip Limits and Recreational Vessel Limits and Split Quotas.

Wednesday, January 31, 2018; 8:30 a.m.-6 p.m.

The Full Council will convene in the morning with a Call to Order, Announcements, and Introductions; Adoption of Agenda and Approval of Minutes; receive a presentation from the Louisiana Law Enforcement and an overview presentation of the Aquaculture Fishery Management Plan (FMP). At mid-morning the Council will review Exempted Fishing Permit (EFPs) Applications. After lunch, the Council will continue reviewing and discussing EFPs as well as receive a summary of any public comments on the EFPs. The Council will receive open public testimony from 3 p.m. until 6 p.m. on Fishery Issues or Concerns. Anyone wishing to speak during public comment should sign in at the registration station located at the entrance to the meeting room.

Thursday, February 1, 2018; 8:30 a.m.-4 p.m.

Full Council will receive committee reports from Reef Fish, Spiny Lobster, Administrative/Budget and Sustainable Fisheries Management Committees, and, a report on the members selected to serve on the Ad Hoc Red Snapper and Grouper -Tilefish IFQ Advisory Panel; and, vote on any Exempted Fishing Permit (EFP) applications. The Council will receive updates from the following supporting agencies: South Atlantic Fishery Management Council; Gulf States Marine Fisheries Commission; U.S. Coast Guard; U.S. Fish and Wildlife Service; and, the Department of State.

Lastly, the Council will discuss any Other Business items.

Meeting Adjourns

The timing and order in which agenda items are addressed may change as required to effectively address the issue. The latest version will be posted on the Council's file server, which can be accessed by going to the Council's website at http://www.gulfcouncil.org and clicking on FTP Server under Quick Links. For meeting materials, go to the Gulf Council website or Gulf Council file server and select the “Briefing Books/Briefing Book 2018-01” folder. The username and password are both “gulfguest”. The meetings will be webcast over the internet. A link to the webcast is available here, https://attendee.gotowebinar.com/register/9086970310199522563.

Although other non-emergency issues not contained in this agenda may come before this Council for discussion, those issues may not be the subjects of formal action during these meetings. Council action will be restricted to those issues specifically listed in this notice and any issues arising after publication of this notice that require emergency action under section 305(c) of the Magnuson-Stevens Act, provided that the public has been notified of the Council's intent to take final action to address the emergency.

Special Accommodations

These meetings are physically accessible to people with disabilities. Requests for sign language interpretation or other auxiliary aids should be directed to Kathy Pereira (see ADDRESSES) at least 5 days prior to the meeting date.

Dated: January 8, 2018.
Tracey L. Thompson,
Acting Deputy Director, Office of Sustainable Fisheries, National Marine Fisheries Service.

[FR Doc. 2018-00375 Filed 1-10-18; 8:45 am]

BILLING CODE 3510-22-P